FEDERAL COMMUNICATIONS COMMISSION

47 CFR Part 64

[CG Docket Nos. 13-24 and 03-123; DA 13-2190]

Request for Comment on Petition Filed by Sprint Corporation for Reconsideration of Certain Rules Adopted for Internet Protocol Captioned Telephone Service

AGENCY: Federal Communications Commission.

ACTION: Petition of Reconditeration: request for comments.

SUMMARY: In this document, the Commission seeks comment on a Sprint Corporation (Sprint) petition requesting reconsideration of certain rules adopted for Internet Protocol Captioned Telephone Service (IP CTS) in the IP CTS Reform Order. The Commission seeks comment on Sprint's request to reconsider the rule prohibiting all providers from receiving compensation from the Interstate Telecommunications Relay Service Fund (TRS Fund) for minutes of use generated by consumers using IP CTS software and applications that consumers receive at no charge or purchase for less than $75. Second, the Commission seeks comment on Sprint's request to modify the registration and certification requirements to allow access to IP CTS phones in public places. Third, the Commission seeks comment on Sprint's request to allow using a slightly different wording from the Commission's required wording for labels on IP CTS equipment.

DATES: Comments are due December 31, 2013 and reply comments are due January 10, 2014.

ADDRESSES: You may submit comments, identified by CG Docket Nos. 13-24 and 03-123, by any of the following methods:

Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket Nos. 13-24 and 03-123.

• Paper filers: Parties who choose to file by paper must file an original and one copy of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th Street SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street SW., Washington, DC 20554.

In addition, parties must serve one copy of each pleading with the Commission's duplicating contractor, Best Copy and Printing, Inc., 445 12th Street SW., Room CY-B402, Washington, DC 20554, or via email to fcc@bcpiweb.com. For detailed instructions for submitting comments and additional information on the rulemaking process, see the SUPPLEMENTARY INFORMATION section of this document.

FOR FURTHER INFORMATION CONTACT: Gregory Hlibok, Consumer and Governmental Affairs Bureau, Disability Rights Office, (202) 559-5158, email: Gregory.Hlibok@fcc.gov.

SUPPLEMENTARY INFORMATION: This is a summary of the Commission's Public Notice, document DA 13-2190, released on November 14, 2013. The full text of document DA 13-2190, and any subsequently filed documents in this matter will be available for public inspection and copying via ECFS, and during regular business hours at the FCC Reference Information Center, Portals II, 445 12th Street SW., Room CY-A257, Washington, DC 20554. It also may be purchased from the Commission's duplicating contractor, Best Copy and Printing, Inc., Portals II, 445 12th Street SW., Room CY-B402, Washington, DC 20554, telephone: (800) 378-3160, fax: (202) 488-5563, or Internet: www.bcpiweb.com. Document DA 13-2190 can also be downloaded in Word or Portable Document Format (PDF) at http://www.fcc.gov/encyclopedia/telecommunications-relay-services-trs. To request materials in accessible formats for people with disabilities (Braille, large print, electronic files, audio format), send an email to fcc504@fcc.gov or call the Consumer and Governmental Affairs Bureau at (202) 418-0530 (voice), (202) 418-0432 (TTY).

Synopsis

1. On September 30, 2013, Sprint filed a petition (Sprint Reconsideration Petition) requesting reconsideration of certain rules adopted for IP CTS in the IP CTS Reform Order, published at 78 FR 53684, August 30, 2013, and codified at 47 CFR 64.604(c)(9), (11)(i) and (iii) of the Commission's rules. Sprint Corporation, Petition for Reconsideration of Sprint Corporation, CG Docket Nos. 13-24 and 03-123 (filed September 30, 2013) (Sprint Reconsideration Petition). First, Sprint asks that the Commission reconsider the rule prohibiting all providers from receiving compensation from the TRS Fund for minutes of use generated by consumers using IP CTS software and applications that consumers receive at no charge or purchase for less than $75 on or after the effective date of the rule. Second, Sprint asks that the Commission modify its registration and certification requirements to allow access to IP CTS phones in public places. Third, Sprint seeks authorization to utilize wording that differs slightly from the Commission's required wording for labels warning consumers that only registered users of IP CTS may use IP CTS with captions turned on. Such labels must be adhered to IP CTS devices and displayed on the device screens of software-based IP CTS applications.

Federal Communications Commission.
Karen Peltz Strauss,
Deputy Chief, Consumer and Governmental Affairs Bureau.

[FR Doc. 2013-28828 Filed 12-13-13; 8:45 am]

BILLING CODE 6712-01-P